DEPARTMENT OF HOMELAND SECURITY

Coast Guard

33 CFR Part 165

[Docket No. USCG-2008-1017]

RIN 1625-AA11

Regulated Navigation Areas; Bars Along the Coasts of Oregon and Washington; Correction

AGENCY: Coast Guard, DHS.

ACTION: Correcting amendment.

SUMMARY: The Coast Guard published a document in the Federal Register on November 17, 2009, adding a section and establishing regulated navigation areas for bars along the coasts of Oregon and Washington. That document inadvertently failed to include an option for mariners to use VHF-FM Channel 16 for notifying the Coast Guard, and also contained typographical errors improperly describing VHF-FM Channel 16 and a position of latitude. This document corrects the final regulations.

DATES: Effective March 9, 2010.

FOR FURTHER INFORMATION CONTACT: If you have questions about this correction, call or e-mail LT Matthew N. Jones, Staff Attorney, Thirteenth Coast Guard District; telephone 206-220-7110, e-mail Matthew.N.Jones@uscg.mil.

List of Subjects in 33 CFR Part 165

Harbors, Marine safety, Navigation (water), Reporting and recordkeeping requirements, Security measures, Waterways.

Accordingly, 33 CFR part 165 is amended by making the following correcting amendment:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1(g), 6.04-1, 6.04-6, and 160.5; Pub. L. 107-295, 116 Stat. 2064; Department of Homeland Security Delegation No. 0170.1.

2. In § 165.1325, revise paragraphs (a)(12) and the first sentence in each of paragraphs (c)(1)(iii), (c)(3)(ii) introductory text, (c)(4)(iii) introductory text, and (c)(5)(ii) introductory text to read as follows:

§ 165.1325 Regulated Navigation Areas; Bars Along the Coasts of Oregon and Washington.

(a) * * *

(12) Umpqua River Bar, Oreg.: From a point on the shoreline at 43°41′20″ N., 124°11′58″ W. thence westward to 43°41′20″ N., 124°13′32″ W. thence southward to 43°38′35″ N., 24°14′25″ W. thence eastward to a point on the shoreline at 43°38′35″ N., 124°12′35″ W. thence northward along the shoreline to light “8″ at 43°40′57″ N., 124°11′13″ W. thence southwestward to a point on the west bank of the entrance channel at 43°40′52″ N., 124°11′34″ W. thence southwestward along the west bank of the entrance channel thence northward along the seaward shoreline to the beginning.

* * * * *

(c) * * *

(1) * * *

(iii) The Coast Guard will notify the public of bar restrictions and bar closures via a Broadcast Notice to Mariners on VHF-FM Channel 16 and 22A. * * *

(3) * * *

(ii) The master or operator of any uninspected passenger vessel operating in a regulated navigation area established in paragraph (a) of this section during the conditions described in paragraph (c)(3)(i)(A) of this section shall contact the Coast Guard on VHF-FM Channel 16 or 22A prior to crossing the bar between sunset and sunrise. * * *

(4) * * *

(iii) The master or operator of any small passenger vessel operating in a regulated navigation area established in paragraph (a) of this section during the conditions described in paragraph (c)(4)(i)(A) of this section shall contact the Coast Guard on VHF-FM Channel 16 or 22A prior to crossing the bar between sunset and sunrise. * * *

(5) * * *

(ii) The master or operator of any commercial fishing vessel operating in a regulated navigation area established in paragraph (a) of this section during the conditions described in paragraph (c)(5)(i)(A) of this section shall contact the Coast Guard on VHF-FM Channel 16 or 22A prior to crossing the bar between sunset and sunrise. * * *

* * * * *

Dated: February 17, 2010.
G.T. Blore,
Rear Admiral, U.S. Coast Guard, Commander, Thirteenth Coast Guard District.

[FR Doc. 2010-4769 Filed 3-8-10; 8:45 am]

BILLING CODE 9110-04-P